NATIONAL WOMEN'S BUSINESS COUNCIL

Quarterly Public Meeting

AGENCY: National Women's Business Council.

ACTION: Notice of open public meeting.

DATES: The Public Meeting will be held on Monday, March 7th, 2016 from 3:00 p.m. to 5:00 p.m. EST.

ADDRESSES: The meeting will be held in Washington, DC. Location details will be provided upon RSVP, as will information about teleconferencing and livestream options.

SUPPLEMENTARY INFORMATION: Pursuant to section 10(a)(2) of the Federal Advisory Committee Act (5 U.S.C., Appendix 2), the U.S. Small Business Administration (SBA) announces the meeting of the National Women's Business Council. The National Women's Business Council is tasked with providing policy recommendations on issues of importance and impact to women entrepreneurs to the SBA, Congress, and the White House.

This meeting is the 2nd quarterly meeting of the Council for Fiscal Year 2016. The program will include remarks from the Council Chair, Carla Harris; an update from each of the NWBC committees; and a discussion of the Council's FY2016 agenda. The discussion will focus on the policy recommendations that the Council will be making to the SBA, Congress, and the White House for improving the business climate for women entrepreneurs, as well as the new research portfolio. Time will be reserved at the end for audience participants to address Council Members directly with questions, comments, or feedback. Additional speakers will be promoted upon confirmation.

FOR FURTHER INFORMATION CONTACT: The meeting is open to the public however advance notice of attendance is requested. To RSVP and confirm attendance, the general public should email info@nwbc.gov with subject line—“RSVP for 03/07 Public Meeting.” Anyone wishing to make a presentation to the NWBC at this meeting must either email their interest to info@nwbc.gov or call the main office number at 202-205-3850.

For more information, please visit the National Women's Business Council Web site at www.nwbc.gov.

Dated: January 29, 2016.
Miguel J. L'Heureux,
SBA Committee Management Officer.

[FR Doc. 2016-02145 Filed 2-3-16; 8:45 am]

BILLING CODE P